DEPARTMENT OF ENERGY

Informational Meeting on Nuclear Fuel Cycle Options

AGENCY: Office of Fuel Cycle Technologies, Office of Nuclear Energy, Department of Energy.

ACTION: Notice of meeting.

SUMMARY: The Office of Fuel Cycle Technologies will be hosting a one-day informational meeting at the Argonne National Laboratory in Lemont, Illinois. At this meeting, input is being sought from participants knowledgeable in nuclear fuel cycles, including those from the public, universities, industry and national laboratories.

DATES: The meeting will be held on Wednesday, April 25, 2012 from 8:30 a.m. to approximately 5:30 p.m.

ADDRESSES: Argonne National Laboratory, 9700 S. Cass Avenue, Lemont, IL 60439. Any individual who wishes to attend the meeting must pre-register before April 16, 2012 at http://www.inl.gov/conferences/nfco/. Foreign Nationals must pre-register before April 5, 2012 and complete the ANL Visit Request form per instructions on the Web site.

FOR FURTHER INFORMATION CONTACT: Ms. Melissa Walton, Meeting Coordinator, Argonne National Laboratory, Building 208, 9700 S. Cass Avenue, Lemont, IL 60439, phone number: 630-252-4860, email: mwalton@anl.gov.

SUPPLEMENTARY INFORMATION: The meeting is open to the public, however space is limited and pre-registration is required (see ADDRESSES above). An agenda for the meeting is available at http://www.inl.gov/conferences/nfco/. This meeting is part of the activities leading to a comprehensive evaluation and screening of nuclear fuel cycle options in 2013. At this meeting, input is being sought from participants knowledgeable in nuclear fuel cycles, particularly including those from the public, universities, industry and national laboratories, to ensure that the set of fuel cycle options developed for the evaluation and screening provides a comprehensive representation of potential fuel cycle performance with respect to the evaluation criteria. The purpose of this meeting is NOT to seek input on the evaluation criteria or the pros and cons of any particular fuel cycle option. Opportunity for providing input on the evaluation criteria will occur in a future meeting later this year.

Issued in Washington, DC, on March 26, 2012.
Robert Price,
Director, Office of Systems Engineering & Integration.

[FR Doc. 2012-7664 Filed 3-29-12; 8:45 am]

BILLING CODE 6450-01-P